DEPARTMENT OF COMMERCE

International Trade Administration

[A-570-893]

Certain Frozen Warmwater Shrimp From the People's Republic of China: Preliminary Results of Antidumping Duty Administrative Review and Preliminary Determination of No Shipments; 2019-2020

AGENCY: Enforcement and Compliance, International Trade Administration, Department of Commerce.

SUMMARY: The Department of Commerce (Commerce) preliminarily determines that four exporters of certain frozen warmwater shrimp (shrimp) from the People's Republic of China (China) had no shipments during the period of review (POR), February 1, 2019, through January 31, 2020. Commerce also preliminarily determines that the 125 remaining companies subject to this review are part of the China-wide entity because they failed to demonstrate their eligibility for separate rates.

DATES: Applicable March 22, 2021.

FOR FURTHER INFORMATION CONTACT: Jasun Moy, AD/CVD Operations, Office V, Enforcement and Compliance, International Trade Administration, U.S. Department of Commerce, 1401 Constitution Avenue NW, Washington, DC 20230; telephone: (202) 482-8194.

SUPPLEMENTARY INFORMATION:

Background

On April 8, 2020, Commerce published in the Federal Register a notice of initiation of an administrative review of the antidumping duty order on shrimp from China for 129 ¹ producers/exporters.² Subsequently, we released U.S. Customs and Border Protection (CBP) data to interested parties for comment.³ We received comments from the petitioner ⁴ and an additional domestic interested party, the American Shrimp Processors Association (ASPA).⁵

¹ In determining this number, we treated two company groups as single entities. These groups are: (1) Allied Pacific Aquatic Products (Zhanjiang) Co., Ltd./Allied Pacific Food (Dalian) Co., Ltd./Allied Pacific (HK) Co., Ltd. (collectively, Allied Pacific) and Shantou Red Garden Food Processing Co., Ltd./Shantou Red Garden Foodstuff Co., Ltd. (collectively, Shantou Red Garden Foods). For further discussion, see Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013) (Exclusion Notice); and Certain Frozen Warmwater Shrimp from the People's Republic of China: Final Results of Antidumping Duty Administrative Review and Final Determination of No Shipments; 2018-2019, 85 FR 83891 (December 23, 2020) and accompanying Issues and Decision Memorandum.

² See Initiation of Antidumping and Countervailing Duty Administrative Reviews, 85 FR 19730 (April 8, 2020) (Initiation Notice). On May 6, 2020, Commerce made a correction to the Initiation Notice because two companies were inadvertently combined on a single line; see Initiation of Antidumping and Countervailing Duty Administrative Reviews, 85 FR 26931 (May 6, 2020).

³ See Memorandum, “Release of U.S. Customs and Border Protection Data,” dated April 15, 2020.

⁴ The petitioner is the Ad Hoc Shrimp Trade Action Committee. See Petitioner's Letter, “Certain Frozen Warmwater Shrimp from the People's Republic of China: Comments on Respondent Selection,” dated April 22, 2020.

⁵ See ASPA's Letter, “Certain Frozen Warmwater Shrimp from China: ASPA's Comments on CBP Data,” dated April 22, 2020.

We received timely certifications from the following exporters that they had not shipped subject merchandise or had not shipped subject merchandise produced by any other entity during the POR: (1) Allied Pacific; ⁶ (2) Shantou Red Garden Foods; ⁷ (3) Zhangzhou Hongwei Foods Co., Ltd. (Zhangzhou Hongwei); ⁸ and (4) Zhanjiang Guolian Aquatic Products Co., Ltd. (Zhanjiang Guolian).⁹ We did not receive a no-shipment statement, separate rate application (SRA), or separate rate certificate (SRC) from any other company subject to this review. Subsequently, CBP confirmed that each of the exporters identified above made no shipments of subject merchandise to the United States during the POR.¹⁰

⁶ Allied Pacific is excluded from the order with respect to merchandise exported by Allied Pacific (HK) Co., Ltd., or Allied Pacific Food (Dalian) Co., Ltd., and manufactured by Allied Pacific Aquatic Products (Zhanjiang) Co., Ltd., or Allied Pacific Aquatic Products (Zhongshan) Co., Ltd., or Allied Pacific Food (Dalian) Co., Ltd. See Exclusion Notice, 78 FR at 18959. Allied Pacific submitted a no shipment certification for exports outside the above combination. See Allied Pacific's Letter, “Certain Frozen Warmwater Shrimp from the People's Republic of China: Notice of No Shipments,” dated April 27, 2020.

⁷ See Shantou Red Garden Food's Letter, “Frozen Warmwater Shrimp from the People's Republic of China; Certification of No Sales,” dated April 28, 2020. These exporters were inadvertently listed as separate entities in the Initiation Notice.

⁸ See Zhangzhou Hongwei's Letter, “Frozen Warmwater Shrimp from the PRC; A-570-893; No Shipment Certification and Comment on Shipments,” dated May 7, 2020.

⁹ Zhanjiang Guolian is excluded from the order with respect to merchandise produced and exported byZhanjiang Guolian. See Notice of Amended Final Determination of Sales at Less Than Fair Value and Antidumping Duty Order: Certain Frozen Warmwater Shrimp from the People's Republic of China, 70 FR 5149, 5152 (February 1, 2005). Zhanjiang Guolian submitted a no shipment certification for exports outside the above combination. See Zhanjiang Guolian's Letter, “Certain Frozen Warmwater Shrimp from the People's Republic of China: Notice of No Shipments,” dated May 15, 2020.

¹⁰ See Memoranda, “Certain Frozen Warmwater Shrimp from the People's Republic of China (A-570-893),” dated July 17, 2020, July 21, 2020, and August 5,.

On April 24, 2020, Commerce exercised its discretion to toll administrative review deadlines by 50 days.¹¹ On July 21, 2020, Commerce exercised its discretion to toll administrative review deadlines by an additional 60 days.¹² Finally, on January 13, 2021, Commerce determined that it was not practicable to complete the preliminary results by the current deadline and extended the time limit by an additional 62 days.¹³ The revised deadline for the preliminary results of this review is now April 21, 2021.

¹¹ See Memorandum, “Tolling of Deadlines for Antidumping and Countervailing Duty Administrative Reviews,” dated April 24, 2020.

¹² See Memorandum, “Tolling of Deadlines for Antidumping and Countervailing Duty Administrative Reviews,” dated July 21, 2020.

¹³ See Memorandum, “Frozen Warmwater Shrimp from the People's Republic of China: Extension of Deadline for Preliminary Results of Antidumping Duty Administrative Review, 2019-2020,” dated January 13, 2021.

Scope of the Order

The products covered by this order are shrimp from China. For a complete description of the scope, see Appendix II.

Methodology

Commerce is conducting this review in accordance with section 751(a)(1)(B) of the Tariff Act of 1930, as amended (the Act), and 19 CFR 351.213.

Preliminary Determination of No Shipments

Based on the available record information, Commerce preliminarily determines that Allied Pacific, Shantou Red Garden Foods, Zhangzhou Hongwei, and Zhanjiang Guolian had no shipments during the POR. Consistent with our assessment practice in non-market economy administrative reviews, Commerce is not rescinding this review for Allied Pacific, Shantou Red Garden Foods, Zhangzhou Hongwei, and Zhanjiang Guolian, but intends to complete the review and issue appropriate instructions to CBP based on the final results of the review.¹⁴

¹⁴ See Non-Market Economy Antidumping Proceedings: Assessment of Antidumping Duties, 76 FR 65694-95 (October 24, 2011); see also the “Assessment Rates” section, below.

Separate Rates

Because 125 companies under review did not submit an SRA or SRC, Commerce preliminarily determines that these companies have not demonstrated their eligibility for a separate rate. See Appendix I.

China-Wide Entity

Commerce's policy regarding conditional review of the China-wide entity applies to this administrative review.¹⁵ Under this policy, the China-wide entity will not be under review unless a party specifically requests, or Commerce self-initiates, a review of the entity. Because no party requested a review of the China-wide entity, and we did not self-initiate a review, the China-wide entity rate (i.e., 112.81 percent) is not subject to change as a result of this review.¹⁶

¹⁵ See Antidumping Proceedings: Announcement of Change in Department Practice for Respondent Selection in Antidumping Duty Proceedings and Conditional Review of the Nonmarket Economy Entity in NME Antidumping Duty Proceedings, 78 FR 65963 (November 4, 2013).

¹⁶ See Notice of Amended Final Determination of Sales at Less Than Fair Value and Antidumping Duty Order: Certain Frozen Warmwater Shrimp from the People's Republic of China, 70 FR 5149 (February 1, 2005).

Public Comment

In accordance with 19 CFR 351.309(c), case briefs or other written comments may be submitted to the Assistant Secretary for Enforcement and Compliance no later than 30 days after the date of publication of these preliminary results, unless the Secretary alters the time limit. Rebuttal briefs, limited to issues raised in case briefs, may be submitted no later than seven days after the deadline date for case briefs.¹⁷ Pursuant to 19 CFR 351.309(c)(2) and (d)(2), parties who submit case briefs or rebuttal briefs in this review are encouraged to submit with each argument: (1) A statement of the issue; (2) a brief summary of the argument; and (3) a table of authorities. Note that Commerce has temporarily modified certain of its requirements for serving documents containing business proprietary information, until further notice.¹⁸

¹⁷ See 19 CFR 351.309; see also 19 CFR 351.303 (for general filing requirements).

¹⁸ See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. Issues raised in the hearing will be limited to issues raised in the respective case and rebuttal briefs. If a request for a hearing is made, Commerce intends to hold the hearing at a date and time to be determined.¹⁹ Parties should confirm the date and time of the hearing two days before the scheduled date. Parties are reminded that all briefs and hearing requests must be filed electronically using ACCESS and received successfully in their entirety by 5:00 p.m. Eastern Time on the due date.

¹⁹ See 19 CFR 351.310(d).

Unless the deadline is extended pursuant to section 751(a)(3)(A) of the Act, Commerce intends to issue the final results of this administrative review, including the results of our analysis of the issues raised by the parties in their comments, within 120 days after publication of these preliminary results.

Assessment Rates

Upon issuance of the final results of this review, Commerce will determine, and CBP shall assess, antidumping duties on all appropriate entries of subject merchandise covered by this review.²⁰ We intend to instruct CBP to liquidate entries containing subject merchandise exported by the companies under review that we determine in the final results to be part of the China-wide entity at the China-wide rate of 112.81 percent. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁰ See 19 CFR 351.212(b)(1).

Cash Deposit Requirements

The following cash deposit requirements will be effective upon publication of the final results of this review for shipments of subject merchandise from China entered, or withdrawn from warehouse, for consumption on or after the publication date, as provided by sections 751(a)(2)(C) of the Act: (1) For previously-investigated or reviewed Chinese and non-Chinese exporters not listed above that received a separate rate in a prior segment of this proceeding, the cash deposit rate will continue to be the existing exporter-specific rate; (2) for all Chinese exporters of subject merchandise that have not been found to be entitled to a separate rate (including the companies listed in Appendix I), the cash deposit rate will be that for the China-wide entity (i.e., 112.81 percent); and (3) for all non-Chinese exporters of subject merchandise which have not received their own rate, the cash deposit rate will be the rate applicable to the Chinese exporter that supplied that non-Chinese exporter. These cash deposit requirements, when imposed, shall remain in effect until further notice.

Notification to Importers

This notice also serves as a reminder to importers of their responsibility under 19 CFR 315.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: March 16, 2021.
Christian Marsh,
Acting Assistant Secretary for Enforcement and Compliance.

Appendix I—List of Companies Preliminarily Determined To Be Part of the China-Wide Entity

1. Anhui Fuhuang Sungem Foodstuff Group Co., Ltd.

2. Asian Seafoods (Zhanjiang) Co., Ltd.

3. Beihai Anbang Seafood Co., Ltd.

4. Beihai Boston Frozen Food Co., Ltd.

5. Beihai Tianwei Aquatic Food Co. Ltd.

6. Changli Luquan Aquatic Products Co., Ltd.

7. Chengda Development Co. Ltd.

8. Dalian Beauty Seafood Company Ltd.

9. Dalian Changfeng Food Co., Ltd.

10. Dalian Guofu Aquatic Products and Food Co., Ltd.

11. Dalian Haiqing Food Co., Ltd.

12. Dalian Hengtai Foods Co., Ltd.

13. Dalian Home Sea International Trading Co., Ltd.

14. Dalian Philica International Trade Co., Ltd.

15. Dalian Philica Supply Chain Management Co., Ltd.

16. Dalian Rich Enterprise Group Co., Ltd.

17. Dalian Shanhai Seafood Co., Ltd.

18. Dalian Sunrise Foodstuffs Co., Ltd.

19. Dalian Taiyang Aquatic Products Co., Ltd.

20. Dandong Taihong Foodstuff Co., Ltd

21. Dongwei Aquatic Products (Zhangzhou) Co., Ltd.

22. Ferrero Food

23. Food Processing Co., Ltd.

24. Fujian Chaohui Aquatic Food Co., Ltd.

25. Fujian Chaohui Group

26. Fujian Chaohui International Trading Co., Ltd.

27. Fujian Dongshan County Shunfa Aquatic Product Co., Ltd.

28. Fujian Dongwei Food Co., Ltd.

29. Fujian Dongya Aquatic Products Co., Ltd.

30. Fujian Fuding Seagull Fishing Food Co., Ltd.

31. Fujian Hainason Trading Co., Ltd.

32. Fujian Haohui Import & Export Co., Ltd.

33. Fujian Hongao Trade Development Co.

34. Fujian R & J Group Ltd.

35. Fujian Rongjiang Import and Export Co., Ltd.

36. Fujian Zhaoan Haili Aquatic Co., Ltd.

37. Fuqing Chaohui Aquatic Food Co., Ltd.

38. Fuqing Dongwei Aquatic Products Industry Co., Ltd.

39. Fuqing Longhua Aquatic Food Co., Ltd.

40. Fuqing Minhua Trade Co., Ltd.

41. Fuqing Yihua Aquatic Food Co., Ltd.

42. Gallant Ocean Group

43. Guangdong Foodstuffs Import & Export (Group) Corporation

44. Guangdong Gourmet Aquatic Products Co., Ltd.

45. Guangdong Jinhang Foods Co., Ltd.

46. Guangdong Rainbow Aquatic Development

47. Guangdong Shunxin Marine Fishery Group Co., Ltd.

48. Guangdong Taizhou Import & Export Trade Co., Ltd.

49. Guangdong Universal Aquatic Food Co. Ltd.

50. Guangdong Wanshida Holding Corp.

51. Guangdong Wanya Foods Fty. Co., Ltd.

52. HaiLi Aquatic Product Co., Ltd.

53. Hainan Brich Aquatic Products Co., Ltd.

54. Hainan Golden Spring Foods Co., Ltd.

55. Hainan Qinfu Foods Co., Ltd.

56. Hainan Xintaisheng Industry Co., Ltd.

57. Huazhou Xinhai Aquatic Products Co. Ltd.

58. Kuehne Nagel Ltd. Xiamen Branch

59. Leizhou Bei Bu Wan Sea Products Co., Ltd.

60. Longhai Gelin Foods Co., Ltd.

61. Maoming Xinzhou Seafood Co., Ltd.

62. New Continent Foods Co., Ltd.

63. Ningbo Prolar Global Co., Ltd.

64. North Seafood Group Co.

65. Pacific Andes Food Ltd.

66. Penglai Huiyang Foodstuff Co., Ltd.

67. Penglai Yuming Foodstuff Co., Ltd.

68. Qingdao Free Trade Zone Sentaida

69. Qingdao Fusheng Foodstuffs Co., Ltd.

70. Qingdao Yihexing Foods Co., Ltd.

71. Qingdao Yize Food Co., Ltd.

72. Qingdao Zhongfu International

73. Qinhuangdao Gangwan Aquatic Products Co., Ltd.

74. Rizhao Meijia Aquatic Foodstuff Co., Ltd.

75. Rizhao Meijia Keyuan Foods Co. Ltd.

76. Rizhao Rongxing Co. Ltd.

77. Rizhao Smart Foods Company Limited

78. Rongcheng Yinhai Aquatic Product Co., Ltd.

79. Rushan Chunjiangyuan Foodstuffs Co., Ltd.

80. Rushan Hengbo Aquatic Products Co., Ltd.

81. Savvy Seafood Inc.

82. Sea Trade International Inc.

83. Shanghai Zhoulian Foods Co., Ltd.

84. Shantou Freezing Aquatic Product Foodstuffs Co.

85. Shantou Haili Aquatic Product Co. Ltd.

86. Shantou Haimao Foodstuff Factory Co., Ltd.

87. Shantou Jiazhou Food Industrial Co., Ltd.

88. Shantou Jintai Aquatic Product Industrial Co., Ltd.

89. Shantou Longsheng Aquatic Product Foodstuff Co., Ltd.

90. Shantou Ocean Best Seafood Corporation

91. Shantou Ruiyuan Industry Co., Ltd.

92. Shantou Wanya Foods Fty. Co., Ltd.

93. Shantou Yuexing Enterprise Company

94. Shengyuan Aquatic Food Co., Ltd.

95. Suizhong Tieshan Food Co., Ltd.

96. Thai Royal Frozen Food Zhanjiang Co., Ltd.

97. Tongwei Hainan Aquatic Products Co., Ltd.

98. Xiamen East Ocean Foods Co., Ltd.

99. Xiamen Granda Import and Export Co., Ltd.

100. Yangjiang Dawu Aquatic Products Co., Ltd.

101. Yangjiang Guolian Seafood Co., Ltd.

102. Yangjiang Haina Datong Trading Co.

103. Yantai Longda Foodstuffs Co., Ltd.

104. Yantai Tedfoods Co., Ltd.

105. Yantai Wei Cheng Food Co., Ltd.

106. Yantai Wei-Cheng Food Co., Ltd.

107. Yixing Magnolia Garment Co., Ltd.

108. Zhangzhou Donghao Seafoods Co., Ltd.

109. Zhangzhou Xinhui Foods Co., Ltd.

110. Zhangzhou Xinwanya Aquatic Product Co., Ltd.

111. Zhangzhou Yanfeng Aquatic Product & Foodstuff Co., Ltd.

112. Zhanjiang Evergreen Aquatic Product Science and Technology Co., Ltd.

113. Zhanjiang Fuchang Aquatic Products Co., Ltd.

114. Zhanjiang Fuchang Aquatic Products Freezing Plant

115. Zhanjiang Longwei Aquatic Products Industry Co., Ltd.

116. Zhanjiang Newpro Foods Co., Ltd.

117. Zhanjiang Regal Integrated Marine Resources Co., Ltd.

118. Zhanjiang Universal Seafood Corp.

119. Zhaoan Yangli Aquatic Co., Ltd.

120. Zhejiang Evernew Seafood Co.

121. Zhejiang Xinwang Foodstuffs Co., Ltd.

122. Zhoushan Genho Food Co., Ltd.

123. Zhoushan Green Food Co., Ltd.

124. Zhoushan Haizhou Aquatic Products

125. Zhuanghe Yongchun Marine Products

Appendix II—Scope of the Order

The scope of the order includes certain frozen warmwater shrimp and prawns, whether wild caught (ocean harvested) or farm raised (produced by aquaculture), head on or head off, shell on or peeled, tail on or tail off,²¹ deveined or not deveined, cooked or raw, or otherwise processed in frozen form.

²¹ “Tails” in this context means the tail fan, which includes the telson and the uropods.

The frozen warmwater shrimp and prawn products included in the scope of the order, regardless of definitions in the harmonized tariff schedule (HTS), are products which are processed from warmwater shrimp and prawns through freezing and which are sold in any count size.

The products described above may be processed from any species of warmwater shrimp and prawns. Warmwater shrimp and prawns are generally classified in, but are not limited to, the Penaeidae family. Some examples of the farmed and wild caught warmwater species include, but are not limited to, white-leg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the order. In addition, food preparations, which are not “prepared meals,” that contain more than 20 percent by weight of shrimp or prawn are also included in the scope of the order.

Excluded from the scope are: (1) Breaded shrimp and prawns (HTS subheading 1605.20.1020); (2) shrimp and prawns generally classified in the Pandalidae family and commonly referred to as coldwater shrimp, in any state of processing; (3) fresh shrimp and prawns whether shell on or peeled (HTS subheadings 0306.23.0020 and 0306.23.0040); (4) shrimp and prawns in prepared meals (HTS subheading 1605.20.0510); (5) dried shrimp and prawns; (6) Lee Kum Kee's shrimp sauce; (7) canned warmwater shrimp and prawns (HTS subheading 1605.20.1040); and (8) certain battered shrimp. Battered shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. When dusted in accordance with the definition of dusting above, the battered shrimp product is also coated with a wet viscous layer containing egg and/or milk, and par-fried.

The products covered by this order are currently classified under the following HTS subheadings: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. These HTS subheadings are provided for convenience and for customs purposes only; the written description of the scope of this order is dispositive.²²

²² On April 26, 2011, Commerce amended the Order to include dusted shrimp, pursuant to the U.S. Court of International Trade (CIT) decision in Ad Hoc Shrimp Trade Action Committee v. United States, 703 F. Supp. 2d 1330 (CIT 2010) and the U.S. International Trade Commission determination, which found the domestic like product to include dusted shrimp. See Certain Frozen Warmwater Shrimp from Brazil, India, the People's Republic of China, Thailand, and the Socialist Republic of Vietnam: Amended Antidumping Duty Orders in Accordance with Final Court Decision, 76 FR 23277 (April 26, 2011); see also Frozen Warmwater Shrimp from Brazil, China, India, Thailand, and Vietnam (Investigation Nos. 731-TA-1063, 1064, 1066-1068 (Review), USITC Publication 4221, March 2011.

[FR Doc. 2021-05874 Filed 3-19-21; 8:45 am]

BILLING CODE 3510-DS-P